DEPARTMENT OF HOMELAND SECURITY

U.S. Immigration and Customs Enforcement

[OMB Control Number 1653-0026]

Agency Information Collection Activities: Reinstatement, Without Change, of a Previously Approved Collection: Information Relating to Beneficiary of Private Bill

AGENCY: U.S. Immigration and Customs Enforcement, Department of Homeland Security.

ACTION: 30-Day notice.

SUMMARY: In accordance with the Paperwork Reductions Act (PRA) of 1995, U.S. Immigration and Customs Enforcement (ICE), the Department of Homeland Security (DHS), will submit the following Information Collection Request (ICR) to the Office of Management and Budget (OMB) for review and clearance. This information collection was previously published in the Federal Register on April 26, 2022, allowing for a 60-day comment period. ICE received no comments in connection with the 60-day notice. The purpose of this notice is to allow an additional 30 days for public comments.

DATES: Comments are encouraged and will be accepted until October 26, 2022.

ADDRESSES: Written comments and recommendations for the proposed information collection should be sent within 30 days of the publication of this notice to https://www.reginfo.gov/public/do/PRAMain. Find this particular information collection by selecting “Currently under 30-day Review—Open for Public Comments” or by using the search function.

FOR FURTHER INFORMATION CONTACT: For specific questions related to collection activities, please contact Ina Farka, ERO Policy Unit, (202) 732-3270, eropolicy@ice.dhs.gov. (This is not a toll-free number).

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses. ICE is adjusting the burden figures from the 60-day notice based on better estimates of the number of applications received.

Overview of This Information Collection

(1) Type of Information Collection: Reinstatement, Without Change, of a Previously Approved Collection.

(2) Title of the Form/Collection: Information Relating to Beneficiary of Private Bill.

(3) Agency form number, if any, and the applicable component of the Department of Homeland Security sponsoring the collection: G79-A; U.S. Immigration and Customs Enforcement.

(4) Affected public who will be asked or required to respond, as well as a brief abstract: Primary: State, Local, or Tribal Government. This form is used by ICE to obtain information from beneficiaries and/or interested parties in Private Bill cases when requested to report by the Committee on the Judiciary.

(5) An estimate of the total number of respondents and the time to respond: The estimated total number of respondents for the information collection is 35 and the estimated hour burden per response is 1.5 hours (90 minutes).

(6) An estimate of the total public burden (in hours) associated with the collection: 52.5 annual burden hours.

Dated: September 20, 2022.
Scott Elmore,
PRA Clearance Officer.

[FR Doc. 2022-20739 Filed 9-23-22; 8:45 am]

BILLING CODE 9111-28-P